DEPARTMENT OF TRANSPORTATION

Federal Aviation Administration

14 CFR Part 71

[Docket No. FAA-2021-1093; Airspace Docket No. 21-ASO-8]

RIN 2120-AA66

Proposed Amendment and Removal of VOR Federal Airways; Southeastern United States

AGENCY: Federal Aviation Administration (FAA), DOT.

ACTION: Notice of proposed rulemaking (NPRM).

SUMMARY: This action proposes to modify 11 and remove 6 VHF Omnidirectional Range (VOR) Federal Airways in support of the VOR Minimum Operational Network (MON) project in the southeastern United States. This proposal would provide for the safe and efficient use of navigable airspace within the National Airspace System (NAS) while reducing NAVAID dependencies throughout the NAS as part of the FAA VOR MON project.

DATES: Comments must be received on or before February 7, 2022.

ADDRESSES: Send comments on this proposal to the U.S. Department of Transportation, Docket Operations, 1200 New Jersey Avenue SE, West Building Ground Floor, Room W12-140, Washington, DC 20590; telephone: 1 (800) 647-5527 or (202) 366-9826. You must identify FAA Docket No. FAA-2021-1093; Airspace Docket No. 21-ASO-8 at the beginning of your comments. You may also submit comments through the internet at https://www.regulations.gov.

FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783. FAA Order JO 7400.11F is also available for inspection at the National Archives and Records Administration (NARA). For information on the availability of FAA Order 7400.11F at NARA, email: fr.inspection@nara.gov or go to https://www.archives.gov/federal-register/cfr/ibr-locations.html.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the VOR Federal airway route structure in the eastern United States to maintain the efficient flow of air traffic.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2021-1093; Airspace Docket No. 21-ASO-8) and be submitted in triplicate to the Docket Management Facility (see ADDRESSES section for address and phone number). You may also submit comments through the internet at https://www.regulations.gov.

Commenters wishing the FAA to acknowledge receipt of their comments on this action must submit with those comments a self-addressed, stamped postcard on which the following statement is made: “Comments to FAA Docket No. FAA-2021-1093; Airspace Docket No. 21-ASO-8.” The postcard will be date/time stamped and returned to the commenter.

All communications received on or before the specified comment closing date will be considered before taking action on the proposed rule. The proposal contained in this action may be changed in light of comments received. A report summarizing each substantive public contact with FAA personnel concerned with this rulemaking will be filed in the docket.

Availability of NPRM's

An electronic copy of this document may be downloaded through the internet at https://www.regulations.gov. Recently published rulemaking documents can also be accessed through the FAA's web page at https://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this proposed rule. FAA Order JO 7400.11F lists Class A, B, C, D, and E airspace areas, air traffic service routes, and reporting points.

The Proposal

The FAA is proposing an amendment to 14 CFR part 71 to modify 11 VOR Federal airways and remove 6 VOR Federal airways in support of the VOR MON project. The proposed airway changes are described below.

V-5: V-5 currently consists of two parts: From Pecan, GA, to Choo Choo, TN; and From Louisville, KY, to Appleton, OH. The FAA proposes to remove the segments from Pecan, GA, to Choo Choo, TN. The remaining part of the route would be amended to begin at New Hope, KY, then to Louisville, KY; Cincinnati, OH; to Appleton, OH. As amended, V-5 would extend from New Hope, KY, to Appleton, OH.

V-20: V-20 currently consists of two parts: From McAllen, TX, to Palacios, TX; and From Beaumont, TX, to Nottingham, MD. This proposal would remove the segments from Montgomery, AL, to Nottingham, MD. As amended, V-20 would extend from McAllen, TX, to Palacios, TX; and from Beaumont, TX, to Monroeville, AL. Additionally, the words “The airspace within R-4007A and R-4007B is excluded” would be removed from the route description because V-20 would no longer pass in the vicinity of the restricted areas.

V-35: V-35 currently consists of two parts: From Dolphin, FL to Morgantown, WV; and From Phillipsburg, PA, to Syracuse, NY. This action would remove the segments between Macon, GA, to Glade Spring, VA, from the first part of the route. The second part of the route would be amended to begin at Charleston, WV, then continuing on to Syracuse, NY, as currently charted. As amended, V-35 would extend from Dolphin, FL, to Pecan, GA; and from Charleston, WV, to Syracuse, NY. In addition, the words “The airspace below 2,000 feet MSL outside the United States is excluded,” and “The portion outside the United States has no upper limit,” would be removed from the route description. A review of aeronautical charts shows that V-35 does not extend outside the U.S. territorial limit, therefore these exclusions are not necessary.

V-51: V-51 currently consists of two parts: From Pahokee, FL to Louisville, KY; and From Shelbyville, IN, to Chicago Heights, IL. The FAA proposes to amend the first part by removing the segments from Alma, GA, to Hinch Mountain, TN. A new second part of the route would extend from Livingston, TN, to Louisville, KY. The current segments from Shelbyville, TN, to Chicago Heights, IL, would become a third part of V-51 and would remain as currently charted. As amended, V-51 would consist of three parts: From Pahokee, FL, to Craig, FL; From Livingston, TN, to Louisville, KY; and From Shelbyville, TN, to Chicago Heights, IL.

V-56: V-56 currently extends from Montgomery, AL, to New Bern, NC. The FAA proposes to remove the segments from Montgomery, AL, to Colliers, SC. As amended, V-56 would extend from Columbia, SC, to New Bern, NC.

V-66: V-66 currently consists of two parts: From Mission, Bay, CA, to Millsap, TX; and From Crimson, AL, to Franklin, VA. The FAA proposes to amend the second part of the route by removing the segments between Crimson, AL, and Greenwood, SC. As amended, V-66 would extend from Mission Bay, CA, to Millsap, TX (as currently charted); and from Sandhills, NC, to Franklin, VA.

V-70: V-70 currently consists of three parts: From Monterrey, Mexico, to Picayune, MS; From Monroeville, AL, to Allendale, SC; and, From Grand Strand, SC, to Cofield, NC. This action would remove the segments between the intersection of the Monroeville, AL, 073° and the Eufala, AL, 258° radials, and Allendale, SC, from the route. As a result, the first part of the route would extend past Picayune, MS, to Monroeville, AL. As amended, V-70 would consist of two parts: From Monterrey, Mexico, to Monroeville, AL; and from Grand Strand, SC to Cofield, NC (as currently charted).

V-97: V-97 currently consists of two parts: From Dolphin, FL, to the intersection of the Chicago Heights, IL, 358° and the Dupage, IL, 101° radials; and From Nodine, MN, to Gopher, MN. The FAA proposes to remove the segments from Atlanta, GA, to Volunteer, TN. As amended, V-97 would consist of three parts: From Dolphin, FL, to Pecan, GA; From London, KY, to the intersection of the Chicago Heights, IL 358° and the Dupage, IL, 101° radials; and, From Nodine, MN, to Gopher, MN.

V-154: V-154 currently extends from Rome, GA, to Savannah, GA. The FAA proposes to remove the entire route.

V-155: V-155 currently extends from Columbus, GA, to Brooke, VA. This action would remove the segments from Columbus, GA, to Colliers, SC. The new starting point of the route would begin at the intersection of the Colliers, SC 058°(T)/062°(M) and the Columbia, SC, 329°(T)/331°(M) radials (this is the WIDER, SC, Fix as shown on Enroute charts). V-155 would then proceed to Brooke, VA, as currently charted. Note: when proposing new radials in a NPRM, both True (T) and Magnetic (M) degrees are stated. Only True degrees are used in any subsequent final rule.

V-179: V-179 currently extends from Brunswick, GA, to the intersection of the Dublin, GA, 309° and the Athens, GA 222° radials. The FAA proposes to remove the entire route.

V-243: V-243 currently extends from Craig, FL, to Choo Choo, TN. The FAA proposes to remove the entire route.

V-267: V-267 currently extends from Dolphin, FL, to Volunteer, TN. This action would remove the segments between Dublin, GA, and Volunteer, TN. As amended, V-267 would extend from Dolphin, FL, to Craig, FL.

V-323: V-323 currently extends from Montgomery, AL, to the intersection of the Dublin, GA, 309° and the Athens, GA, 221° radials. The FAA proposes to remove the entire route.

V-362: V-362 currently extends from Brunswick, GA, to Macon, GA. The FAA proposes to remove the entire route.

V-454: V-454 currently consists of two parts: From Brookley, AL, to the intersection of the Greenwood, SC, 046° and the Charlotte, NC 227° radials; and From the intersection of the Charlotte, NC 034° and the Liberty, NC, 253° radials to Hopewell, VA. This action proposes to remove the segments from the intersection of the Monroeville, AL, 073° and the Eufala, AL, 258° radials, to the intersection of the Greenwood, SC, 046° and the Charlotte, NC, 227° radials from the first part of the route. The starting point for the second part of the route (the intersection of the Charlotte 034° and the Liberty 253° radials) would be replaced by Liberty, NC. Therefore, as amended, V-454 would extend from Brookley, AL, to Monroeville, AL; and from Liberty, NC, to Hopewell, VA.

V-578: V-578 currently extends from Pecan, GA, to Savannah, GA. The FAA proposes to remove the entire route.

Domestic VOR Federal airways are published in paragraph 6010(a) of FAA Order JO 7400.11F, dated August 10, 2021, and effective September 15, 2021, which is incorporated by reference in 14 CFR 71.1. The VOR Federal airways listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6010(a) Domestic VOR Federal Airways.

* * * * *

V-5 [Amended]

From New Hope, KY; Louisville, KY; Cincinnati, OH; to Appleton, OH.

* * * * *

V-20 [Amended]

From McAllen, TX, INT McAllen 038° and Corpus Christi, TX, 178° radials; 10 miles 8 miles wide, 37 miles 7 miles wide (3 miles E and 4 miles W of centerline), Corpus Christi; INT Corpus Christi 054° and Palacios, TX, 226° radials; to Palacios. From Beaumont, TX; Lake Charles, LA; Lafayette, LA; Reserve, LA; INT Reserve 084° and Gulfport, MS, 247° radials; Gulfport; Semmes, AL; INT Semmes 048° and Monroeville, AL, 231° radials; to Monroeville.

The airspace on the main airway above 14,000 feet MSL from McAllen to 49 miles northeast, and the airspace within Mexico is excluded.

* * * * *

V-35 [Amended]

From Dolphin, FL; INT Dolphin 266° and Cypress, FL, 110° radials; INT Cypress 110° and Lee County, FL, 138° radials; Lee County; INT Lee County 326° and St. Petersburg, FL, 152° radials; St. Petersburg; INT St. Petersburg 350° and Cross City, FL, 168° radials; Cross City; Greenville, FL; to Pecan, GA. From Charleston, WV; INT Charleston 051° and Elkins, WV, 264° radials; Clarksburg, WV to Morgantown, WV. From Philipsburg, PA; Stonyfork, PA; Elmira, NY; to Syracuse, NY.

* * * * *

V-51 [Amended]

From Pahokee, FL; INT Pahokee 010°and Treasure, FL, 193° radials; Treasure; INT Treasure 330°and Ormond Beach, FL, 183° radials; Ormond Beach; to Craig, FL. From Livingston, TN; to Louisville, KY. From Shelbyville, IN; INT Shelbyville 313° and Boiler, IN, 136° radials; Boiler; to Chicago Heights, IL.

* * * * *

V-56 [Amended]

From Columbia, SC; Florence, SC; Fayetteville, NC, 41 miles 15 MSL, INT Fayetteville 098° and New Bern, NC 256° radials; to New Bern.

* * * * *

V-66 [Amended]

From Mission Bay, CA; Imperial, CA; 13 miles, 24 miles, 25 MSL; Bard, AZ; 12 miles, 35 MSL; INT Bard 089° and Gila Bend, AZ, 261° radials; 46 miles, 35 MSL; Gila Bend; Tucson, AZ, 7 miles wide (3 miles south and 4 miles north of centerline); Douglas, AZ; INT Douglas 064° and Columbus, NM,277° radials; Columbus; El Paso, TX; 6 miles wide; INT El Paso 109° and Hudspeth, TX, 287° radials; 6 miles wide; Hudspeth; Pecos, TX; Midland, TX; INT Midland 083° and Abilene, TX, 252° radials; Abilene; to Millsap, TX. From Sandhills, NC; Raleigh-Durham, NC; to Franklin, VA.

* * * * *

V-70 [Amended]

From Monterrey, Mexico; Brownsville, TX; INT Brownsville 338°and Corpus Christi, TX, 193° radials; 34 miles standard width, 37 miles 7 miles wide (4 miles E and 3 miles W of centerline), Corpus Christi; INT Corpus Christi 054° and Palacios, TX, 226° radials; Palacios; Scholes, TX; Sabine Pass, TX; Lake Charles, LA; Lafayette, LA; Fighting Tiger, LA; Picayune, MS; Green County, MS; to Monroeville, AL. From Grand Strand, SC; Wilmington, NC; Kinston, NC; INT Kinston 050° and Cofield, NC, 186° radials; to Cofield. The airspace within Mexico is excluded.

* * * * *

V-97 [Amended]

From Dolphin, FL; La Belle, FL; St. Petersburg, FL; Seminole, FL; to Pecan, GA. From London, KY; Lexington, KY; Cincinnati, KY; Shelbyville, IN; INT Shelbyville 313° and Boiler, IN, 136° radials; Boiler; Chicago Heights, IL; to INT Chicago Heights 358° and DuPage, IL, 101° radials. From Nodine, MN; to Gopher, MN. The airspace below 2,000 feet MSL outside the United States is excluded.

* * * * *

V-154 [Removed]

* * * * *

V-155 [Amended]

From INT Colliers, SC, 058°(T)/062°(M) and Columbia, SC 329°(T)/331°(M) radials; Chesterfield, SC; Sandhills, NC; Raleigh-Durham, NC; Lawrenceville, VA; INT Lawrenceville 034° and Flat Rock, VA; 171° radials; Flat Rock; to Brooke, VA. The airspace within R-6602A is excluded.

* * * * *

V-179 [Removed]

* * * * *

V-243 [Removed]

* * * * *

V-267 [Amended]

From Dolphin, FL; INT Dolphin 354° and Pahokee, FL, 157° radials; Pahokee; Orlando, FL; to Craig, FL.

* * * * *

V-323 [Removed]

* * * * *

V-362 [Removed]

* * * * *

V-454 [Amended]

From Brookley, AL; to Monroeville, AL. From Liberty, NC; Lawrenceville, VA; to Hopewell, VA.

* * * * *

V-578 [Removed]

* * * * *

Issued in Washington, DC, on December 15, 2021.
Margaret C. Flategraff,
Acting Manager, Rules and Regulations Group.

[FR Doc. 2021-27632 Filed 12-22-21; 8:45 am]

BILLING CODE 4910-13-P